NATIONAL CREDIT UNION ADMINISTRATION

Sunshine Act: Notice of Agency Meeting

TIME AND DATE: 10:00 a.m., Thursday, May 21, 2015.

PLACE: Board Room, 7th Floor, Room 7047, 1775 Duke Street (All visitors must use Diagonal Road Entrance), Alexandria, VA 22314-3428.

STATUS: Open,

MATTERS TO BE CONSIDERED: 1. Corporate Stabilization Fund Quarterly Report.

RECESS: 10:20 a.m.

TIME AND DATE: 10:30 a.m., Thursday, May 21, 2015

PLACE: Board Room, 7th Floor, Room 7047, 1775 Duke Street, Alexandria, VA 22314-3428.

STATUS: Closed,

MATTERS TO BE CONSIDERED: 1. Consideration of Supervisory Action under NCUA's Rules and Regulations. Closed pursuant to Exemption (8).

FOR FURTHER INFORMATION CONTACT: Gerard Poliquin, Secretary of the Board, Telephone: 703-518-6304.

Gerard Poliquin,
Secretary of the Board.

[FR Doc. 2015-12071 Filed 5-14-15; 4:15 pm]

BILLING CODE 7535-01-P